DEPARTMENT OF DEFENSE

Office of the Secretary

[Docket ID: DOD-2010-OS-0039]

Privacy Act of 1974; System of Records

AGENCY: Office of the Secretary, DoD.

ACTION: Notice to alter a system of records.

SUMMARY: The Office of the Secretary of Defense proposes to alter a system of records in its inventory of record systems subject to the Privacy Act of 1974 (5 U.S.C. 552a), as amended.

DATES: This proposed action would be effective without further notice on May 10, 2010 unless comments are received which result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard at (703) 588-6830.

SUPPLEMENTARY INFORMATION: The Office of the Secretary of Defense notices for systems of records subject to the Privacy Act of 1974 (5 U.S.C. 552a), as amended, have been published in the Federal Register and are available from the Chief, OSD/JS Privacy Office, Freedom of Information Directorate, Washington Headquarters Services, 1155 Defense Pentagon, Washington, DC 20301-1155.

The proposed system report, as required by 5 U.S.C. 552a(r) of the Privacy Act of 1974, as amended, was submitted on March 26, 2010, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996; 61 FR 6427).

Dated: April 5, 2010.
Mitchell S. Bryman,
Alternate OSD Federal Register Liaison Officer, Department of Defense.

DWHS P18

System name:

Office of the Secretary of Defense Identification Badge System (October 10, 2006; 71 FR 59495).

Changes:

* * * * *

Categories of individuals covered by the system:

Delete entry and replace with “All permanent military personnel assigned to the Office of the Secretary of Defense.”

Categories of records in the system:

Delete entry and replace with “Name, Social Security Number (SSN), rank, service, date assigned and the Office of the Secretary of Defense component to which assigned.”

Authority for maintenance of the system:

Delete entry and replace with “10 U.S.C. 1125, Recognition for Accomplishments: Awards & Trophies; Recognition for accomplishments: Award of trophies, DoD 1348.33-M, Manual of Military Decorations and Awards and E.O. 9397 (SSN), as amended.”

Purpose(s):

Delete entry and replace with “To be used by officials of the Military Personnel Division, Human Resources Directorate, Washington Headquarters Services to temporarily issue the badge at arrival and determine who is authorized permanent award after a one-year period and then prepare the certificate to recognize this event.”

* * * * *

Storage:

Delete entry and replace with “Paper and/or electronic storage media”.

* * * * *

Safeguards:

Delete entry and replace with “Accesses authorized by system manager, granted by Information Technology Management Directorate to a secure computer application database and are Common Access Card enabled. Users receive annual Privacy Act and information assurance training, and only those individuals with an official “need to know” are provided access. Back-up data is stored in a locked room.”

Retention and disposal:

Delete entry and replace with “Records are retired to Washington National Records Center 3 years after cut off. Destroy when 15 years old”.

System manager(s) and address:

Delete entry and replace with “Chief, Office of Secretary of Defense Awards Branch, Human Resources Directorate, Washington Headquarters Services, Department of Defense, 1155 Defense Pentagon, Washington, DC 20301-1155.”

Notification procedure:

Delete entry and replace with “Individuals seeking to determine whether information about themselves is contained in this system should address written inquiries to Military Personnel, Human Resources Directorate, Washington Headquarters Services, Department of Defense, 1155 Defense Pentagon, Washington, DC 20301-1155.

Requests must include the name and number of this system of records notice, along with the individual's name, grade, service, Social Security Number (SSN) and be signed.”

Record access procedures:

Delete entry and replace with “Individuals seeking access to information about themselves contained in this system should address written inquiries to the Office of Secretary of Defense/Joint Staff, Freedom of Information Requester Service Center, Office of Freedom of Information, 1155 Defense Pentagon, Washington, DC 20301-1155.

Requests must include the name and number of this system of records notice, along with the individual's name, grade, service, Social Security Number (SSN) and be signed.”

* * * * *

DWHS P18

System name:

Office of the Secretary of Defense Identification Badge System.

System location:

Military Personnel, Washington Headquarters Services, Department of Defense, Room 5E556, 1155 Defense Pentagon, Washington, DC 20301-1155.

Categories of individuals covered by the system:

All permanent military personnel assigned to the Office of the Secretary of Defense.

Categories of records in the system:

Name, Social Security Number (SSN), rank, service, date assigned and the Office of the Secretary of Defense component to which assigned.

Authority for maintenance of the system:

10 U.S.C. 1125, Recognition for Accomplishments: Awards & Trophies; Recognition for accomplishments: Award of trophies, DoD 1348.33-M, Manual of Military Decorations and Awards and E.O. 9397 (SSN), as amended.

Purpose(s):

To be used by officials of the Military Personnel Division, Human Resources Directorate, Washington Headquarters Services to temporarily issue the badge at arrival and determine who is authorized permanent award after a one-year period and then prepare the certificate to recognize this event.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

The DoD ‘Blanket Routine Uses’ set forth at the beginning of Office of the Secretary of Defense's compilation of systems of records notices apply to this system.

Policies and practices for storing, retrieving, accessing, retaining, and disposing of records in the system:

Storage:

Paper and/or electronic storage media.

Retrievability:

Information is retrieved by last name of recipient, Social Security Number (SSN), grade, and/or service.

Safeguards:

Accesses are authorized by system manager, granted by Information Technology Management Directorate to a secure computer application database and are Common Access Card enabled. Users receive annual Privacy Act and information assurance training, and only those individuals with an official “need to know” are provided access. Back-up data is stored in a locked room.

Retention and disposal:

Records are retired to Washington National Records Center 3 years after cutoff. Destroy when 15 years old.

System manager(s) and address:

Chief, Office of Secretary of Defense Awards Branch, Human Resources Directorate, Washington Headquarters Services, Department of Defense, 1155 Defense Pentagon, Washington, DC 20301-1155.

Notification procedure:

Individuals seeking to determine whether information about themselves is contained in this system should address written inquiries to Military Personnel, Human Resources Directorate, Washington Headquarters Services, Department of Defense, 1155 Defense Pentagon, Washington, DC 20301-1155.

Requests must include the name and number of this system of records notice, along with the individual's name, grade, service, Social Security Number (SSN) and be signed.

Record access procedures:

Individuals seeking access to information about themselves contained in this system should address written inquiries to the Office of Secretary of Defense/Joint Staff, Freedom of Information Requester Service Center, Office of Freedom of Information, 1155 Defense Pentagon, Washington, DC 20301-1155.

Requests must include the name and number of this system of records notice, along with the individual's name, grade, service, Social Security Number (SSN) and be signed.

Contesting record procedures:

The Office of Secretary of Defense rules for accessing records, for contesting contents and appealing initial agency determinations are published in Office of Secretary of Defense Administrative Instruction 81; 32 CFR part 311; or may be obtained from the system manager.

Record source categories:

Individual.

Exemptions claimed for the system:

None.

[FR Doc. 2010-7965 Filed 4-7-10; 8:45 am]

BILLING CODE 5001-06-P